DEPARTMENT OF THE INTERIOR

Central Utah Project Completion Act

AGENCIES: Department of the Interior, Office of the Assistant Secretary—Water and Science.

ACTION: Notice of Availability, Final Environmental Assessment (FEA) and Finding of No Significant Impact (FONSI), Hobble Creek Stream Restoration, Utah County, Utah.

SUMMARY: Pursuant to Section 102(2)(c) of the National Environmental Policy Act of 1969, as amended, the Central Utah Project Completion Act Office has evaluated the environmental impacts of a proposal to relocate, and restore natural stream sinuosity, and fisheries habitat, in Hobble Creek, a tributary to Utah Lake in Utah County, Utah, to assist recovery of the endangered June sucker fish (Chasmistes liorus). Following a review of issues, with public involvement, the Department has concluded that no significant impacts affecting the quality of the human environment are anticipated to result from this action. Therefore, no Environmental Impact Statement will be prepared.

Under the Proposed Action, approximately the last one mile of Hobble Creek, where it enters Utah Lake, will be relocated onto property owned by the State of Utah. The project will improve the hydrology of the stream, open the upper reaches of Hobble Creek to spawning June sucker, which currently exist in Utah Lake. As part of the project, adjacent wetlands and connecting side channels will be constructed on the property to create backwater habitat for survival and rearing of larval stages of June sucker produced in the creek. After construction, the project lands would be managed by the Utah Division of Wildlife Resources for protection of wetlands and conservation of the June sucker. The Utah Transit Authority, State of Utah, and the U.S. Fish and Wildlife Service served as cooperating agencies in completing the environmental evaluations under NEPA.

This project is being implemented in cooperation with the June Sucker Recovery Implementation Program (JSRIP).

FOR FURTHER INFORMATION CONTACT: Copies of the Final EA and FONSI are available by contacting Mr. Ralph G. Swanson at the Central Utah Project Completion Act Office, 302 East 1860 South, Provo, Utah 84606, by calling 801/379-1254, or E-mail at rswanson@uc.usbr.gov.

Copies of the Final EA and FONSI are also available for inspection at:

Springville City Library, 50 South Main, Springville, Utah 84663;

Department of the Interior, Central Utah Project Completion Act Office, 302 East 1860 South, Provo, Utah 84606.

In addition, both documents are available at the JSRIP Web site at http://www.junesuckerrecovery.org or the Utah Transit Authority Web site at http://www.rideuta.com.

SUPPLEMENTARY INFORMATION: None.

Reed R. Murray,
CUP Program Director, Department of the Interior.

[FR Doc. E8-22050 Filed 9-19-08; 8:45 am]

BILLING CODE 4310-RK-P